DEPARTMENT OF THE TREASURY

Internal Revenue Service

26 CFR Part 1

[REG-130200-08]

RIN 1545-BI09

Election of Reduced Research Credit Under Section 280C(c)(3); Hearing Cancellation

AGENCY: Internal Revenue Service (IRS), Treasury.

ACTION: Cancellation of notice of public hearing on proposed rulemaking.

SUMMARY: This document cancels a public hearing on proposed rulemaking that amends the regulations concerning taxpayers who make the election to claim the reduced research credit. The proposed regulations simplify how taxpayers make the election and affect taxpayers that claim the research credit.

DATES: The public hearing, originally scheduled for November 4, 2009, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Thursday, July 16, 2009 (74 FR 34523), announced that a public hearing was scheduled for November 4, 2009, at 10 a.m., in the auditorium, Internal Revenue Building, 1111 Constitution Avenue, NW., Washington, DC. The subject of the public hearing is under section 280C of the Internal Revenue Code.

The public comment period for these regulations expired on October 14, 2009. Outlines of topics to be discussed at the hearing were due on October 16, 2009. The notice of proposed rulemaking and notice of public hearing instructed those interested in testifying at the public hearing to submit an outline of the topics to be addressed. As of Tuesday, October 20, 2009, the taxpayer, who wished to present oral comments, has requested to withdraw. Therefore, the public hearing scheduled for November 4, 2009, is cancelled.

LaNita Van Dyke,
Chief, Publications and Regulations Branch, Legal Processing Division, Associate Chief Counsel (Procedure and Administration).

[FR Doc. E9-25743 Filed 10-26-09; 8:45 am]

BILLING CODE 4830-01-P